DEPARTMENT OF HEALTH AND HUMAN SERVICES

Centers for Disease Control and Prevention

[Docket No. CDC-2017-0059]

Notice of Availability of Record of Decision for Site Acquisition and Campus Consolidation for the Centers for Disease Control and Prevention/National Institute for Occupational Safety and Health (CDC/NIOSH), Cincinnati, Ohio

AGENCY: Centers for Disease Control and Prevention (CDC), Department of Health and Human Services (HHS).

ACTION: Notice.

SUMMARY: The Centers for Disease Control and Prevention (CDC) within the Department of Health and Human Services (HHS), in cooperation with the U.S. General Services Administration (GSA), announces the availability of the Record of Decision (ROD) for the acquisition of a site in Cincinnati, Ohio, and development of this site into a new, consolidated CDC/National Institute for Occupational Safety and Health (NIOSH) campus (Proposed Action). The site to be acquired is bounded by Martin Luther King Drive East to the south, Harvey Avenue to the west, Ridgeway Avenue to the north, and Reading Road to the east.

CDC published a Final Environmental Impact Statement (EIS) for this action on July 20, 2018 pursuant to the requirements of the National Environmental Policy Act (NEPA) of 1969 as implemented by the Council on Environmental Quality (CEQ) Regulations (40 CFR parts 1500-1508). CDC carefully considered the findings of the Final EIS when making its decision.

ADDRESSES: The ROD is available for viewing on the Federal eRulemaking Portal: http://www.regulations.gov (reference Docket No. CDC-2017-0059). A limited number of printed copies are available upon request to cdc-cincinnati-eis@cdc.gov or Harry Marsh, Architect, Office of Safety, Security and Asset Management (OSSAM), Centers for Disease Control and Prevention, 1600 Clifton Road NE, MS-K80, Atlanta, Georgia 30329-4027. All U.S. Mail communications must include the agency name and Docket Number.

FOR FURTHER INFORMATION CONTACT: Harry Marsh, Architect, Office of Safety, Security and Asset Management (OSSAM), Centers for Disease Control and Prevention, 1600 Clifton Road NE, MS-K80, Atlanta, Georgia 30329-4027, phone: (770) 488-8170, or email: cdc-cincinnati-eis@cdc.gov.

SUPPLEMENTARY INFORMATION:

Background: CDC is dedicated to protecting health and promoting quality of life through the prevention and control of disease, injury, and disability. NIOSH, one of CDC's Centers, Institutes, and Offices, was established by the Occupational Safety and Health Act of 1970. NIOSH plans, directs, and coordinates a national program to develop and establish recommended occupational safety and health standards; conduct research and training; provide technical assistance; and perform related activities to assure safe and healthful working conditions for every working person in the United States.

Currently, three NIOSH research facilities—the Robert A. Taft Campus, Taft North Campus, and the Alice Hamilton Laboratory Campus—are located in Cincinnati, Ohio. These facilities no longer meet the research needs required to support occupational safety and health in the modern workplace. The facilities' deficiencies adversely affect NIOSH's ability to conduct occupational safety and health research in Cincinnati. It is not possible to renovate the facilities located on the three campuses to meet current standards and requirements. Additionally, the current distribution of NIOSH activities across separate campuses in Cincinnati results in inefficiencies in scientific collaboration and the duplication of operational support activities. To address these issues, CDC proposed to relocate and consolidate its Cincinnati-based functions and personnel (approximately 550 employees) currently housed at the three existing campuses to a new, consolidated campus in Cincinnati.

Potential locations for the new campus were identified through a comprehensive site selection process conducted by GSA on behalf of CDC. In June 2016, GSA issued a Request for Expressions of Interest (REOI) seeking potential sites capable of accommodating the proposed new campus. In response to the REOI, GSA received seven expressions of interest. Following an assessment of each site, GSA found that only one site qualified for further consideration (the Site). The Site encompasses all land between Martin Luther King Drive East to the south, Harvey Avenue to the west, Ridgeway Avenue to the north, and Reading Road to the east in Cincinnati, Ohio.

Under NEPA, as implemented by CEQ Regulations (40 CFR parts 1500-1508), Federal agencies are required to evaluate the environmental effects of their proposed actions and a range of reasonable alternatives to the proposed action before making a decision. In compliance with NEPA, CDC published a Draft EIS for the proposed site acquisition and campus consolidation on February 9, 2018 and a Final EIS on July 20, 2018. The Draft EIS was available for public review and comment for 45 days. All comments received were considered when preparing the Final EIS. The Draft and Final EIS analyzed two alternatives: the Proposed Action Alternative (acquisition of the Site and construction of a new, consolidated CDC/NIOSH campus) and the No Action Alternative (continued use of the existing campuses for the foreseeable future). The Final EIS identified the Proposed Action Alternative as CDC's Preferred Alternative.

After carefully considering the Final EIS and all comments received, CDC has made the decision to implement the Proposed Action Alternative. CDC's rationale for this decision is detailed in the ROD. The ROD incorporates all the mitigation and minimization measures described in the Final EIS.

Dated: August 13, 2018.
Sandra Cashman,
Executive Secretary, Centers for Disease Control and Prevention.

[FR Doc. 2018-17707 Filed 8-20-18; 8:45 am]

BILLING CODE 4163-18-P